ENVIRONMENTAL PROTECTION AGENCY

[EPA-HQ-OARM-2018-0065; FRL-9981-87-OEI]

Information Collection Request Submitted to OMB for Review and Approval; Comment Request; Drug Testing for Contractor Employees (Renewal)

AGENCY: Environmental Protection Agency (EPA).

ACTION: Notice.

SUMMARY: The Environmental Protection Agency (EPA) has submitted an information collection request (ICR), Drug Testing for Contractor Employees (EPA ICR No. 2183.07, OMB Control No. 2030-0044), to the Office of Management and Budget (OMB) for review and approval in accordance with the Paperwork Reduction Act. This is a proposed extension of the ICR, which is currently approved through August 31, 2018. Public comments were previously requested via the Federal Register on May 11, 2018, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 13, 2018.

ADDRESSES: Submit your comments, referencing Docket ID Number EPA-HQ-OARM-2018-0065, to (1) EPA online using www.regulations.gov (our preferred method), by email to oei.docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Thomas Valentino, Policy, Training and Oversight Division, Office of Acquisition Management (3802R), Environmental Protection Agency, 1200 Pennsylvania Ave. NW, Washington, DC 20460; telephone number: (202) 564-4522; email address: valentino.thomas@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR applies to a contractor who performs response services at sensitive sites with serious security concerns where the Agency and public interest would best be protected through drug testing of contractor employees. The contractor will test employees for the use of marijuana, cocaine, opiates, amphetamines, phencyclidine (PCP), and any other controlled substances. Only contractor employees who have been tested within the previous 90 calendar days and have passing drug test results may be directly engaged in on-site response work and/or on-site related activities at designated sites with significant security concerns. The Agency may request contractors responding to any of these types of incidents to conduct drug testing and apply Government-established suitability criteria in Title 5 CFR Administrative Personnel 731.104 Appointments Subject to Investigation, 732.201 Sensitivity Level Designations and Investigative Requirements, and 736.102 Notice to Investigative Sources, when determining whether employees are acceptable to perform on given sites or on specific projects.

Form Numbers: None.

Respondents/affected entities: Private Contractors.

Respondent's obligation to respond: Required to obtain a benefit per Title 5 CFR Administrative Personnel 731.104 Appointments Subject to Investigation, 732.201 Sensitivity Level Designations and Investigative Requirements, and 736.102 Notice to Investigative Sources.

Estimated number of respondents: 500 (total).

Frequency of response: Annual.

Total estimated burden: 1,125 hours (per year). Burden is defined at 5 CFR 1320.03(b).

Total estimated cost: $129,100 (per year), includes $0 annualized capital or operation & maintenance costs.

Changes in the Estimates: There is an increase of 112 hours in the total estimated respondent burden compared with the ICR currently approved by OMB. This increase is an adjustment due to more awarded contracts/orders performed on sensitive sites that require this drug testing for contractor employees.

Courtney Kerwin,
Director, Regulatory Support Division.

[FR Doc. 2018-17439 Filed 8-13-18; 8:45 am]

BILLING CODE 6560-50-P